DEPARTMENT OF HOMELAND SECURITY

Federal Emergency Management Agency

[Docket ID FEMA-2013-0002; Internal Agency Docket No. FEMA-B-1293]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before May 6, 2013.

ADDRESSES: The Preliminary FIRM, and where applicable, the FIS report for each community are available for inspection at both the online location and the respective Community Map Repository address listed in the tables below. Additionally, the current effective FIRM and FIS report for each community are accessible online through the FEMA Map Service Center at www.msc.fema.gov for comparison.

You may submit comments, identified by Docket No. FEMA-B-1293, to Luis Rodriguez, Chief, Engineering Management Branch, Federal Insurance and Mitigation Administration, FEMA, 500 C Street SW., Washington, DC 20472, (202) 646-4064, or (email) Luis.Rodriguez3@fema.dhs.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at http://floodsrp.org/pdfs/srp_fact_sheet.pdf.

The watersheds and/or communities affected are listed in the tables below. The Preliminary FIRM, and where applicable, FIS report for each community are available for inspection at both the online location and the respective Community Map Repository address listed in the tables. Additionally, the current effective FIRM and FIS report for each community are accessible online through the FEMA Map Service Center at www.msc.fema.gov for comparison.

I. Non-watershed-based studies:

Community | Community map repository address
Bucks County, Pennsylvania (All Jurisdictions)
Maps Available for Inspection Online at: www.rampp-team.com/pa.htm
Borough of Bristol | Borough Municipal Building, 250 Pond Street, Bristol, PA 19007.
Borough of Chalfont | Borough Hall, 40 North Main Street, Chalfont, PA 18914.
Borough of Doylestown | Borough Hall, 57 West Court Street, Doylestown, PA 18901.
Borough of Hulmeville | Borough Hall, 321 Main Street, Hulmeville, PA 19047.
Borough of Langhorne | Borough Office, 114 East Maple Avenue, Langhorne, PA 19047.
Borough of Langhorne Manor | Langhorne Manor Borough Municipal Building, 618 Hulmeville Avenue, Langhorne, PA 19047.
Borough of Morrisville | Borough Hall, 35 Union Street, Morrisville, PA 19067.
Borough of New Britain | Borough Hall, 45 Keeley Avenue, New Britain, PA 18901.
Borough of New Hope | Borough Hall, 123 New Street, New Hope, PA 18938.
Borough of Newtown | Pickering, Corts & Summerson, 642 Newtown-Yardley Road, Suite 300, Newtown, PA 18940.
Borough of Penndel | Borough Hall, 300 Bellevue Avenue, Penndel, PA 19047.
Borough of Perkasie | Borough Municipal Building, 620 West Chestnut Street, Perkasie, PA 18944.
Borough of Quakertown | Borough Hall, 35 North 3rd Street, Quakertown, PA 18951.
Borough of Riegelsville | Borough Municipal Building, 615 Easton Road, Riegelsville, PA 18077.
Borough of Sellersville | Borough Municipal Building, 140 East Church Street, Sellersville, PA 18960.
Borough of Silverdale | Borough Hall, 100 West Park Avenue, Silverdale, PA 18962.
Borough of Trumbauersville | Borough Hall, 1 Evergreen Drive, Trumbauersville, PA 18970.
Borough of Tullytown | Borough Municipal Building, 500 Main Street, Tullytown, PA 19007.
Borough of Yardley | Borough Hall, 56 South Main Street, Yardley, PA 19067.
Township of Bedminster | Township Office, 3112 Bedminster Road, Bedminster, PA 18910.
Township of Bensalem | Township Building, 2400 Byberry Road, Bensalem, PA 19020.
Township of Bridgeton | Bridgeton Township Office, 1370 Bridgeton Hill Road, Upper Black Eddy, PA 18972.
Township of Bristol | Township Hall, 2501 Bath Road, Bristol, PA 19007.
Township of Buckingham | Township Office, 4613 Hughesian Drive, Buckingham, PA 18912.
Township of Doylestown | Township Hall, 425 Wells Road, Doylestown, PA 18901.
Township of Durham | Township Municipal Building, 215 Old Furnace Road, Durham, PA 18039.
Township of East Rockhill | East Rockhill Township Hall, 1622 Ridge Road, Perkasie, PA 18944.
Township of Falls | Falls Township Building, 188 Lincoln Highway, Fairless Hills, PA 19030.
Township of Haycock | Haycock Township Municipal Building, 640 Harrisburg School Road, Quakertown, PA 18951.
Township of Hilltown | Township Hall, 13 West Creamery Road, Hilltown, PA 18927.
Township of Lower Makefield | Lower Makefield Township Building, 1100 Edgewood Road, Yardley, PA 19067.
Township of Lower Southampton | Lower Southampton Township Municipal Building, 1500 Desire Avenue, Feastorville, PA 19053.
Township of Middletown | Middletown Township Municipal Center, 3 Municipal Way, Langhorne, PA 19047.
Township of Milford | Milford Township Hall, 2100 Krammes Road, Quakertown, PA 18951.
Township of New Britain | New Britain Township Building, 207 Park Avenue, Chalfont, PA 18914.
Township of Newtown | Township Building, 100 Municipal Drive, Newtown, PA 18940.
Township of Nockamixon | Nockamixon Township Office, 589 Lake Warren Road, Upper Black Eddy, PA 18972.
Township of Northampton | Northampton Township Administrative Building, 55 Township Road, Richboro, PA 18954.
Township of Plumstead | Plumstead Township Hall, 5186 Stump Road, Pipersville, PA 18947.
Township of Richland | Richland Township Municipal Building, 1328 California Road, Suite A, Quakertown, PA 18951.
Township of Solebury | Township Municipal Building, 3092 Sugan Road, Solebury, PA 18963.
Township of Springfield | Springfield Township Hall, 2320 Township Road, Quakertown, PA 18951.
Township of Tinicum | Tinicum Township Municipal Building, 163 Municipal Road, Pipersville, PA 18947.
Township of Upper Makefield | Upper Makefield Township Building, 1076 Eagle Road, Newtown, PA 18940.
Township of Upper Southampton | Upper Southampton Township Building, 939 Street Road, Southampton, PA 18966.
Township of Warminster | Township License and Inspections Department, 910 West Bristol Road, Warminster, PA 18974.
Township of Warrington | Township Building, 852 Easton Road, Warrington, PA 18976.
Township of Warwick | Warwick Township Hall, 1733 Township Greene, Jamison, PA 18929.
Township of West Rockhill | West Rockhill Township Office, 1028 Ridge Road, Sellersville, PA 18960.
Township of Wrightstown | Township Building, 2203 2nd Street Pike, Wrightstown, PA 18940.
City of Norfolk, Virginia (Independent City)
Maps Available for Inspection Online at: www.rampp-team.com/va.htm
City of Norfolk | Zoning Enforcement Office, 508 City Hall Building, 810 Union Street, Norfolk, VA 23510.
Rusk County, Wisconsin, and Incorporated Areas
Maps Available for Inspection Online at: www.starr-team.com/starr/RegionalWorkspaces/RegionV/RuskWI
City of Ladysmith | City Hall, 120 Miner Avenue West, Ladysmith, WI 54848.
Unincorporated Areas of Rusk County | Rusk County Courthouse, 311 East Miner Avenue, Ladysmith, WI 54848.
Village of Bruce | Village Hall, 100 West River Avenue, Bruce, WI 54819.
Village of Conrath | Village Post Office, W7101 Main Street, Conrath, WI 54731.
Village of Glen Flora | Village Hall, N5746 Cedar Street, Glen Flora, WI 54526.
Village of Hawkins | Village Hall, 509 Main Street, Hawkins, WI 54530.
Village of Ingram | Village Hall, N5970 State Highway 73, Ingram, WI 54526.
Village of Sheldon | Village Office, W5594 Main Street, Sheldon, WI 54766.
Village of Tony | Village Hall, N5377 Maple Street, Tony, WI 54563.
Village of Weyerhaeuser | Village Hall, N3840 Second Street, Weyerhaeuser, WI 54895.

(Catalog of Federal Domestic Assistance No. 97.022, “Flood Insurance.”)

James A. Walke,
Acting Deputy Associate Administrator for Mitigation, Department of Homeland Security, Federal Emergency Management Agency.

[FR Doc. 2013-02444 Filed 2-4-13; 8:45 am]

BILLING CODE 9110-12-P